DEPARTMENT OF TRANSPORTATION

Federal Aviation Administration

14 CFR Part 39

[Docket No. FAA-2007-0254; Directorate Identifier 2007-NM-209-AD]

RIN 2120-AA64

Airworthiness Directives; Boeing Model 777 Airplanes

AGENCY: Federal Aviation Administration (FAA), Department of Transportation (DOT).

ACTION: Notice of proposed rulemaking (NPRM).

SUMMARY: The FAA proposes to adopt a new airworthiness directive (AD) for certain Boeing Model 777 airplanes. This proposed AD would require installing software upgrades to the airplane information management system (AIMS) located in the flight compartment. This proposed AD results from an investigation that revealed that detrimental effects could occur on certain AIMS software during flight. We are proposing this AD to prevent an unannunciated loss of cabin pressure. If an undetected loss of pressure event were to cause an unsafe pressure in the cabin, the flight crew could become incapacitated.

DATES: We must receive comments on this proposed AD by January 14, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Jay Yi, Aerospace Engineer, Systems and Equipment Branch, ANM-130S, FAA, Seattle Aircraft Certification Office, 1601 Lind Avenue, SW., Renton, Washington 98057-3356; telephone (425) 917-6494; fax (425) 917-6590.

SUPPLEMENTARY INFORMATION:

Comments Invited

We invite you to send any written relevant data, views, or arguments about this proposed AD. Send your comments to an address listed under the ADDRESSES section. Include “Docket No. FAA-2007-0254; Directorate Identifier 2007-NM-209-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

An investigation of a service problem revealed that detrimental effects could occur during flight on certain Boeing Model 777 airplanes with certain airplane information management system (AIMS) software. The following airplane effects could potentially occur: A false measure of cabin pressure by the left air supply and cabin pressure controller (ASCPC) could result in an unannunciated loss of cabin pressure. If an undetected loss of pressure event were to cause an unsafe pressure in the cabin, the flightcrew could become incapacitated.

Relevant Service Information

We have reviewed Boeing Alert Service Bulletin 777-31A0119, Revision 1, dated March 27, 2007; and Boeing Alert Service Bulletin 777-31A0120, Revision 1, dated March 23, 2007. Service Bulletin 777-31A0119 describes procedures for installing the AIMS-1 Blockpoint 2006 (BP06) operational software in the AIMS-1 hardware. Service Bulletin 777-31A0120 describes procedures for installing the AIMS-2 BP06 operational software in the AIMS-2 hardware.

Concurrent Service Bulletins

Boeing Alert Service Bulletin 777-31A0119 recommends prior or concurrent accomplishment of Boeing Special Attention Service Bulletin 777-31-0098, Revision 1, dated May 3, 2007. That service bulletin describes procedures for installing the AIMS-1 Blockpoint 2005A (BP05A) operational software. Boeing Alert Service Bulletin 777-31A0120 recommends prior or concurrent accomplishment of Boeing Special Attention Service Bulletin 777-31-0097, Revision 3, dated February 22, 2007. That service bulletin describes procedures for installing the AIMS-2 BP05A operational software.

FAA's Determination and Requirements of the Proposed AD

We have evaluated all pertinent information and identified an unsafe condition that is likely to exist or develop on other airplanes of this same type design. For this reason, we are proposing this AD, which would require accomplishing the actions specified in the service information described previously.

Costs of Compliance

There are about 142 airplanes of the affected design in the worldwide fleet. This proposed AD would affect about 2 airplanes of U.S. registry. The proposed actions would take between 1 and 4 work hours per airplane, at an average labor rate of $80 per work hour. Based on these figures, the estimated cost of the proposed AD for U.S. operators is between $160 and $640, or between $80 and $320 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2007-0254; Directorate Identifier 2007-NM-209-AD.

Comments Due Date

(a) The FAA must receive comments on this AD action by January 14, 2008.

Affected ADs

(b) None.

Applicability

(c) This AD applies to Boeing Model 777-200, -200LR, -300, -300ER series airplanes, certificated in any category; as identified in Boeing Alert Service Bulletin 777-31A0119, Revision 1, dated March 27, 2007; and Boeing Alert Service Bulletin 777-31A0120, Revision 1, dated March 23, 2007.

Unsafe Condition

(d) This AD results from an investigation that revealed that detrimental effects could occur on certain airplane information management system (AIMS) software during flight. We are issuing this AD to prevent an unannunciated loss of cabin pressure. If an undetected loss of pressure event were to cause an unsafe pressure in the cabin, the flight crew could become incapacitated.

Compliance

(e) You are responsible for having the actions required by this AD performed within the compliance times specified, unless the actions have already been done.

Software Installation

(f) Within 15 months after the effective date of this AD, do the actions specified in paragraphs (f)(1) and (f)(2) of this AD, as applicable.

(1) Install the AIMS Blockpoint 2006 (BP06) operational software by doing all the actions in accordance with the Accomplishment Instructions of Boeing Alert Service Bulletin 777-31A0119, Revision 1, dated March 27, 2007; or Boeing Alert Service Bulletin 777-31A0120, Revision 1, dated March 23, 2007; as applicable.

(2) Prior to or concurrently with accomplishing the software installation, install the AIMS Blockpoint 2005A (BP05A) software in accordance with the Accomplishment Instructions of Boeing Special Attention Service Bulletin 777-31-0098, Revision 1, dated May 3, 2007; or Boeing Special Attention Service Bulletin 777-31-0097, Revision 3, dated February 22, 2007; as applicable.

Credit for Actions Done Using Previous Service Information

(g) Actions accomplished before the effective date of this AD in accordance with Boeing Alert Service Bulletin 777-31A0119, or Boeing Alert Service Bulletin 777-31A0120, both dated October 16, 2006, are considered acceptable for compliance with the corresponding actions specified in this AD.

Alternative Methods of Compliance (AMOCs)

(h)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on November 20, 2007.
Ali Bahrami,
Manager, Transport Airplane Directorate, Aircraft Certification Service.

[FR Doc. E7-23117 Filed 11-27-07; 8:45 am]

BILLING CODE 4910-13-P